DEPARTMENT OF COMMERCE

National Oceanic and Atmospheric Administration

RIN 0648-XC253

Endangered Species; File No. 16733

AGENCY: National Marine Fisheries Service (NMFS), National Oceanic and Atmospheric Administration (NOAA), Commerce.

ACTION: Notice; receipt of application.

SUMMARY: Notice is hereby given that NMFS Southeast Fisheries Science Center (SEFSC; Responsible Party: Bonnie Ponwith), 75 Virginia Beach Dr., Miami, FL 33149, has applied in due form for a permit to take loggerhead (Caretta caretta), green (Chelonia mydas), Kemp's ridley (Lepidochelys kempii), hawksbill (Eretmochelys imbricata), leatherback (Dermochelys coriacea), and olive ridley (L. olivacea) sea turtles for purposes of scientific research.

DATES: Written, telefaxed, or email comments must be received on or before October 24, 2012.

ADDRESSES: The application and related documents are available for review by selecting “Records Open for Public Comment” from the Features box on the Applications and Permits for Protected Species (APPS) home page, https://apps.nmfs.noaa.gov, and then selecting File No. 16733 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division

• By email to NMFS.Pr1Comments@noaa.gov (include the File No. in the subject line of the email),

• By facsimile to (301)713-0376, or

• At the address listed above.

Those individuals requesting a public hearing should submit a written request to the Chief, Permits and Conservation Division at the address listed above. The request should set forth the specific reasons why a hearing on this application would be appropriate.

FOR FURTHER INFORMATION CONTACT: Amy Hapeman or Colette Cairns, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The SEFSC requests a five-year permit to conduct research on leatherback, loggerhead, green, hawksbill, olive ridley, and Kemp's ridley sea turtles in the North Atlantic Ocean, Gulf of Mexico, Caribbean Sea and their embayments to improve stock assessments, fill data gaps, assess the impact of anthropogenic activities, and better manage and, ultimately, recover these species. The SEFSC requests to take 915 loggerheads, 560 greens, 455 Kemp's ridleys, 65 hawksbills, 60 leatherbacks, 10 olive ridleys, and 24 unidentified/hybrid hardshells annually for measurements, laboratory experiments, biological sampling, temporary marking, tracking, ultrasound, and/or attachment of transmitters before being released back to the wild. Turtles would be directly captured in water by hand or using nets or would be obtained from other legal sources. A minor number of mortalities is requested annually for turtles that could accidentally die during research. In addition, the SEFSC would observe 2,620 loggerheads, 565 greens, 615 Kemp's ridleys, 287 hawksbills, 665 leatherbacks, 37 olive ridleys, and 2,170 unidentified hardshells annually during aerial, vessel, and acoustic surveys.

Dated: September 19, 2012.
P. Michael Payne,
Chief, Permits and Conservation Division, Office of Protected Resources, National Marine Fisheries Service.

[FR Doc. 2012-23492 Filed 9-21-12; 8:45 am]

BILLING CODE 3510-22-P